FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 11, 2002.

A. Federal Reserve Bank of Philadelphia (Michael E.Collins, Senior Vice President) 100 North 6th Street, Philadelphia,Pennsylvania 19105-1521:

1. George Connell, Radnor, Pennsylvania; to acquire additional voting shares of Bryn Mawr Bank Corporation, Bryn Mawr,Pennsylvania, and thereby indirectly acquire voting shares of Bryn Mawr Trust Company, Bryn Mawr, Pennsylvania.

B. Federal Reserve Bank of Kansas City (Susan Zubradt,Assistant Vice President) 925 Grand Avenue, Kansas City, Missouri 64198-0001:

1. Lynn Dinsdale Marchese, Omaha, Nebraska; to retain voting shares of Pinnacle Bancorp, Inc., Central City, Nebraska, and thereby indirectly retain voting shares of Bank of Colorado, Fort Collins,Colorado; First National Bank, Abilene, Kansas; Pinnacle Bank, Papillion,Nebraska; Pinnacle Bank - Wyoming, Torrington, Wyoming; and Western Bank,Gallup, New Mexico.

2. Blair Lauritzen Gogel, Mission Hills, Kansas, and Clarkson Davis Lauritzen, Boston, Massachusetts; to acquire voting shares of K.B.J. Enterprises, Inc., Omaha, Nebraska, and thereby indirectly acquire voting shares of Sibley State Bank, Sibley, Iowa.

Board of Governors of the Federal Reserve System, May 22, 2002.
Robert deV. Frierson,
Deputy Secretary of the Board.

[FR Doc. 02-13324 Filed 5-28-02; 8:45 am]

BILLING CODE 6210-01-S